DEPARTMENT OF TRANSPORTATION

Federal Aviation Administration

Public Notice of Intent To Rule on Request To Release Airport Property at Dallas/Fort Worth International Airport, Texas

AGENCY: Federal Aviation Administration (FAA) DOT.

ACTION: Notice of request to release airport property.

SUMMARY: The FAA proposes to rule and invites public comment on the release of land at Dallas/Forth Worth International Airport under the provisions of Title 49, U.S.C. Section 47107.

DATES: Comments must be received on or before October 7, 2007.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to Mr. Jeff Fegan, Airport Manager at the following address: Dallas/Fort Worth International Airport, 3200 E. Airfield Dr., P.O. Box 619428, DFW Airport, TX 75261-9428.

The request to release property may be reviewed in person at this same location.

SUPPLEMENTARY INFORMATION: On September 6, 2007, the FAA determined that the request to release property at Dallas/Fort Worth International Airport submitted by the Airport met the procedural requirements of the Federal Aviation Regulations, Part 155.

The following is a brief overview of the request:

The Dallas/Fort Worth International Airport requests the release of two tracts of non-aeronautical use airport property. One tract is 0.0274 acres, and the second tract is 2.8736 acres. The 2.8736-acre parcel was acquired by the airport with an Airport Improvement Program (AIP) grant. The land will be traded for the like amount for right of way purposes.

Any person may inspect the request in person at the FAA office listed above under FOR FURTHER INFORMATION CONTACT.

In addition, any person may, upon request, inspect the application, notice and other documents relevant to the application in person at the Dallas/Fort Worth International Airport.

Issued in Fort Worth, Texas on September 10, 2007.
Kelvin L. Solco,
Manager, Airports Division.

[FR Doc. 07-4604 Filed 9-17-07; 8:45 am]

BILLING CODE 4910-13-M